DEPARTMENT OF DEFENSE

Department of the Navy

Notice of Availability of Record of Decision for the Final Environmental Impact Statement/Overseas Environmental Impact Statement for Mariana Islands Training and Testing

AGENCY: Department of the Navy, DoD.

ACTION: Notice.

SUMMARY: The Department of the Navy (DoN), after carefully weighing the strategic, operational, and environmental consequences of the proposed action, announces its decision to implement Alternative 1, the Navy's preferred alternative, as described in the Mariana Islands Training and Testing (MITT) Final Environmental Impact Statement/Overseas Environmental Impact Statement (EIS/OEIS). Under Alternative 1, the Navy will be able to meet current and future DoN and DoD training and testing requirements, including the use of active sonar and explosives within the MITT Study Area. The MITT study area is composed of established sea-based (at-sea) ranges and land-based training areas on Guam and the Commonwealth of the Mariana Islands, and operating areas and special use airspace in the regions of the Mariana Islands that are part of the Mariana Islands Range Complex (MIRC). The Study Area also includes a transit corridor that connects the MIRC and the Hawaiian Islands Range Complex and pierside sonar maintenance and testing alongside Navy piers located in Inner Apra Harbor.

SUPPLEMENTARY INFORMATION: The complete text of the Record of Decision is available at https://mitt-eis.com. Single copies of the Record of Decision are available upon request by contacting: MITT EIS/OEIS Project Manager, Naval Facilities Engineering Command Pacific, 258 Makalapa Drive, Suite 100, Pearl Harbor, HI 96860-3134.

Dated: July 29, 2015.
N.A. Hagerty-Ford,
Commander, Judge Advocate General's Corps, U.S. Navy, Federal Register Liaison Officer.

[FR Doc. 2015-19050 Filed 8-3-15; 8:45 am]

BILLING CODE 3810-FF-P